OFFICE OF PERSONNEL MANAGEMENT

5 CFR Part 532

RIN 3206-AN85

Prevailing Rate Systems; Redefinition of Certain Nonappropriated Fund Federal Wage System Wage Areas

AGENCY: Office of Personnel Management.

ACTION: Final rule.

SUMMARY: This rule amends the geographic boundaries of several nonappropriated fund (NAF) Federal Wage System (FWS) wage areas. Based on consensus recommendations of the Federal Prevailing Rate Advisory Committee (FPRAC), the Office of Personnel Management (OPM) is defining St. Joseph County, Indiana, as an area of application county to the Lake, Illinois, NAF FWS wage area; Greene County, Missouri, as an area of application county to the Leavenworth-Jackson-Johnson, Kansas, NAF FWS wage area; Lucas County, Ohio, as an area of application county to the Macomb, Michigan, NAF FWS wage area; and the municipality of Mayaguez, Puerto Rico, as an area of application municipality to the Guaynabo-San Juan, PR, NAF FWS wage area. These changes are necessary because NAF FWS employees are now working in these locations, but the locations are not currently defined to NAF wage areas. In addition, OPM is removing the municipalities of Ceiba, Isabela, Toa Baja, and Vieques, PR, and the U.S. Virgin Islands of St. Croix and St. Thomas, from the wage area definition of the Guaynabo-San Juan NAF wage area because there are no longer NAF FWS employees working in these locations.

DATES: Effective October 24, 2019.

FOR FURTHER INFORMATION CONTACT: Madeline Gonzalez, by telephone at (202) 606-2838 or by email at pay-leave-policy@opm.gov.

SUPPLEMENTARY INFORMATION: On June 10, 2019, OPM issued a proposed rule (84 FR 26767) to define—

• St. Joseph County, IN, as an area of application county to the Lake, IL, NAF FWS wage area;

• Greene County, MO, as an area of application county to the Leavenworth-Jackson-Johnson, KS, NAF FWS wage area;

• Lucas County, OH, as an area of application county to the Macomb, MI, NAF FWS wage area; and

• Municipality of Mayaguez, PR, as an area of application municipality to the Guaynabo-San Juan, PR, NAF FWS wage area.

In addition, the proposed rule removed the municipalities of Ceiba, Isabela, Toa Baja, and Vieques, PR, and the U.S. Virgin Islands of St. Croix and St. Thomas, from the wage area definition of the Guaynabo-San Juan, PR, NAF FWS wage.

FPRAC, the national labor-management committee responsible for advising OPM on matters concerning the pay of FWS employees, reviewed and recommended these changes by consensus. These changes will apply on the first day of the first applicable pay period beginning on or after 30 days following publication of the final regulations.

The 30-day comment period ended on July 10, 2019. OPM received one comment in support of the proposal to redefine Lucas County, OH, to the Macomb, MI, wage area.

Regulatory Impact Analysis

This action is not a “significant regulatory action” under the terms of Executive Order (E.O.) 12866 (58 FR 51735, October 4, 1993) and is therefore not subject to review under E.O. 12866 and 13563 (76 FR 3821, January 21, 2011).

Reducing Regulation and Controlling Regulatory Costs

This rule is not an Executive Order 13771 regulatory action because this rule is not significant under E.O. 12866.

Regulatory Flexibility Act

OPM certifies that this rule will not have a significant economic impact on a substantial number of small entities because they will affect only Federal agencies and employees.

Federalism

We have examined this rule in accordance with Executive Order 13132, Federalism, and have determined that this rule will not have any negative impact on the rights, roles and responsibilities of State, local, or tribal governments.

Civil Justice Reform

This regulation meets the applicable standard set forth in Executive Order 12988.

Unfunded Mandates Act of 1995

This rule will not result in the expenditure by State, local, and tribal governments, in the aggregate, or by the private sector, of $100 million or more in any year and it will not significantly or uniquely affect small governments. Therefore, no actions were deemed necessary under the provisions of the Unfunded Mandates Reform Act of 1995.

Congressional Review Act

This action pertains to agency management, personnel, and organization and does not substantially affect the rights or obligations of nonagency parties and, accordingly, is not a “rule” as that term is used by the Congressional Review Act (Subtitle E of the Small Business Regulatory Enforcement Fairness Act of 1996 (SBREFA)). Therefore, the reporting requirement of 5 U.S.C. 801 does not apply.

Paperwork Reduction Act

This rule does not impose any new reporting or record-keeping requirements subject to the Paperwork Reduction Act.

List of Subjects in 5 CFR Part 532

Administrative practice and procedure, Freedom of information, Government employees, Reporting and recordkeeping requirements, Wages.

Office of Personnel Management.
Stephen Hickman,
Federal Register Liaison.

Accordingly, OPM amends 5 CFR part 532 as follows:

PART 532—PREVAILING RATE SYSTEMS

1. The authority citation for part 532 continues to read as follows:

Authority: 5 U.S.C. 5343, 5346; § 532.707 also issued under 5 U.S.C. 552.

2. In appendix D to subpart B, amend the table by revising the wage area listing for the States of Illinois, Kansas, and Michigan and the Commonwealth of Puerto Rico to read as follows:

Appendix D to Subpart B of Part 532—Nonappropriated Fund Wage and Survey Areas

* * * * *

Definitions of Wage Areas and Wage Area Survey Areas

* * * * *
ILLINOIS
LAKE
Survey Area
Illinois:
Lake
Area of Application. Survey area.
Illinois:
Cook
Rock Island
Vermilion
Indiana:
St. Joseph
Iowa:
Johnson
Michigan:
Dickinson
Marquette
Wisconsin:
Brown
Dane
Milwaukee
St. Clair
Survey Area
Illinois:
St. Clair
Area of Application. Survey area plus:
Illinois:
Madison
Williamson
Indiana:
Vanderburgh
Missouri: (city)
St. Louis
Missouri: (counties)
Jefferson
Pulaski
KANSAS
Leaven-Worth-Jackson-Johnson
Survey Area
Kansas:
Leavenworth
Missouri:
Jackson
Johnson
Area of Application. Survey area.
Kansas:
Shawnee
Missouri:
Boone
Camden
Cass
Greene
Sedgwick
Survey Area
Kansas:
Sedgwick
Area of Application. Survey area.
Kansas:
Geary
Saline
* * * * *
MICHIGAN
Macomb
Survey Area
Michigan:
Macomb
Area of Application. Survey area.
Michigan:
Alpena
Calhoun
Crawford
Grand Traverse
Huron
Iosco
Kent
Leelanau
Ottawa
Saginaw
Washtenaw
Wayne
Ohio:
Lucas
Ottawa
* * * * *
PUERTO RICO
Guaynabo-San Juan
Survey Area
Puerto Rico:
Guaynabo
San Juan
Area of Application. Survey area.
Puerto Rico:
Aguadilla
Bayamon
Mayaguez
Ponce
Salinas
* * * * *

[FR Doc. 2019-20144 Filed 9-23-19; 8:45 am]

BILLING CODE 6325-39-P